DEPARTMENT OF JUSTICE

Notice of Lodging of Proposed Consent Decree Under the Clean Water Act

On January 2, 2015, the Department of Justice lodged a proposed Consent Decree in United States and the State of Arkansas v. The City of Fort Smith, Arkansas, Civil Action No. 14-cv-02266-PKH in the United States District Court for the Western District of Arkansas. Notice is hereby given that, for a period of 30 days, the United States will receive public comments on the proposed Consent Decree.

The United States and the State filed an amended complaint against Fort Smith on the same date. The amended complaint alleges that Fort Smith discharged untreated wastewater from Fort Smith's sanitary sewer collection system to waters of the United States and the State on numerous occasions, and that Fort Smith failed to comply with certain terms and conditions of its National Pollutant Discharge Elimination System permits, in violation of Sections 301 and 402 of the Clean Water Act, 33 U.S.C. 1311 and 1342.

Under the settlement, Fort Smith will implement various injunctive measures to achieve full compliance with the Clean Water Act and eliminate sanitary system overflows. The injunctive measures to be undertaken by Fort Smith include conducting a comprehensive inspection of its collection system for condition defects, increasing capacity of sewer lines, where needed, repairing, rehabilitating or replacing sewer lines with significant defects, upgrading of pump stations, and developing and implementing a “capacity, management, operation and maintenance system” to further reduce the incidence of sanitary sewer overflows. The estimated cost of implementing these measures, over an anticipated 12 year period, is approximately $205,000,000 in current dollars. Fort Smith will also implement a Supplemental Environmental Project aimed at assisting qualified low income residential property owners to repair or replace defective private service lines which connection to its collection system, valued at $400,000. Fort Smith will also pay a civil penalty of to the United States of $300,000.

The publication of this notice opens a period for public comment on the proposed Consent Decree. Comments should be addressed to the Assistant Attorney General, Environment and Natural Resources Division, and should refer to United States and the State of Arkansas v. The City of Fort Smith, Arkansas, (Civil Action No. 14-cv-02266), D.J. Ref. No. 90-5-1-1-08677. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the proposed Consent Decree may be examined and downloaded at this Justice Department Web site: http://www.usdoj.gov/enrd/Consent_Decrees.html. We will provide a paper copy of the Consent Decree upon written request and payment of reproduction costs. Please mail your request and payment to: Consent Decree Library, U.S. DOJ-ENRD, P.O. Box 7611, Washington, DC 20044-7611. Please enclose a check or money order for $30.25 (25 cents per page reproduction cost) payable to the United States Treasury.

Maureen Katz,
Assistant Chief, Environmental Enforcement Section, Environment and Natural Resources Division.

[FR Doc. 2015-00076 Filed 1-7-15; 8:45 am]

BILLING CODE 4410-15-P